DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the following information collections: (1) Pre-Hearing Statement (LS-18); (2) Overpayment Recovery Questionnaire (OWCP-20); (3) Claim for Continuance of Compensation (CA-12).

DATES: Written comments must be submitted to the office listed in the addressee section below by February 19, 2002.

ADDRESSES: Ms. Patricia A. Forkel, U.S. Department of Labor, 200 Constitution Ave., NW., Room S-3201, Washington, DC 20210, telephone (202) 693-0339 (this is not a toll-free number), fax (202) 693-1451, E-mail: pforkel@fenix2.dol-esa.gov.

SUPPLEMENTARY INFORMATION:

Pre-Hearing Statement (LS-18)

I. Background

The Office of Workers' Compensation Programs administers the Longshore and Harbor Workers' Compensation Act. The Act provides benefits to workers injured in maritime employment on the navigable waters of the United States or in an adjoining area customarily used by an employer in loading, unloading, repairing, or building a vessel. Title 20, CFR 702.217 provides for the referral of claims under the Longshore Act for formal hearings. This section provides that, before a case is transferred to the Office of Administrative Law Judges, the district director shall furnish each of the parties or their representatives with a copy of a pre-hearing statement form. Each party shall, within 21 days of receipt, complete it and return it to the district director. Upon receipt, the district director shall transmit the form to the Office of the Chief Administrative Law Judge.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection in order to carry out its responsibility to prepare cases for formal hearings under the Act.

Type of Review: Extension.

Agency: Employment Standards Administration.

Title: Pre-Hearing Statement.

OMB Number: 1215-0085.

Agency Number: LS-18.

Affected Public: Individuals or households; Businesses or other for-profit.

Frequency: On occasion.

Total Annual Respondents/Responses: 6,800.

Time Per Response: 10 minutes.

Estimated Total Burden Hours: 1,088.

Total Burden Cost (capital/startup): $0.

Total Burden Cost (operating/maintenance): $2,595.50.

Overpayment Recovery Questionnaire (OWCP-20)

Background

Both the Federal Coal Mine Health and Safety Act (30 U.S.C. 923(b) and 20 CFR 725.544(c) and the Federal Employees' Compensation Act (5 U.S.C. 8129(b) and 20 CFR 10.320-10.324) provide for the recovery, waiver, compromise, or termination of overpayment of benefits to beneficiaries. The OWCP-20 collects information used to ascertain the financial condition of the beneficiary who has been overpaid to determine if the concealment or improper transfer of assets, and to identify and consider present and potential income and current assets for enforced collection proceedings. The form also provides a means for the beneficiary to explain why he/she is not at fault for the overpayment.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval for this information collection in order to carry out its responsibility under the law to resolve overpayments under the Acts.

Type of Review: Extension.

Agency: Employment Standards Administration.

Title: Overpayment Recovery Questionnaire.

OMB Number: 1215-0144.

Agency Number: OWCP-20.

Affected Public: Individuals or households.

Frequency: On occasion.

Total Annual Respondents/Responses: 4,500.

Time Per Response: 45-75 minutes, average 1 hour.

Estimated Total Burden Hours: 4,500.

Total Burden Cost (capital/startup): $0.

Total Burden Cost (operating/maintenance): $1,665.

Claim for Continuance of Compensation (CA-12)

I. Background

Under 5 U.S.C. 8133, Federal Employees' Compensation Act, and 20 CFR 10.410, eligible dependents of deceased Federal employees receive compensation benefits on account of the employee's death. The OWCP monitors death benefits for criteria which qualify the beneficiary as the employee's dependent under law. The CA-12 is designated for this purpose.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

Type of Review: Extension.

Agency: Employment Standards Administration.

Title: Claim for Continuance of Compensation.

OMB Number: 1215-0154.

Affected Public: Individuals or households.

Frequency: Annually.

Total Annual Respondents/Responses: 5,900.

Time Per Response: 5 minutes.

Estimated Total Burden Hours: 492.

Total Burden Cost (capital/startup): $0.

Total Burden Cost (operating/maintenance): $2,006.

Comments submitted in response to this notice will be summarized and/or included in the request for Office of Management and Budget approval of the information collection request; they will also become a matter of public record.

Dated: December 7, 2001.
Margaret J. Sherrill,
Chief, Branch of Management Review and Internal Control, Division of Financial Management, Office of Management, Administration and Planning, Employment Standards Administration.

[FR Doc. 01-31211 Filed 12-18-01; 8:45 am]

BILLING CODE 4510-CF-P